NATIONAL TRANSPORTATION SAFETY BOARD

[Docket No.: NTSB-2023-0005]

Information Collection: Generic Clearance for the Collection of Qualitative Feedback on Agency Service Delivery

AGENCY: National Transportation Safety Board (NTSB).

ACTION: Notice and request for comments for a new information collection.

SUMMARY: Under the Paperwork Reduction Act (PRA) of 1995, the NTSB invites public comment on the agency's intent to submit to the Office of Management and Budget (OMB) an Information Collection Request (ICR), seeking Generic Clearance for a new collection. Specifically, the NTSB intends to seek OMB approval on generic clearance for qualitative feedback on agency service delivery.

DATES: Submit written comments regarding this proposed collection of information by July 31, 2023.

ADDRESSES: You may send comments, identified by Docket Number (No.) NTSB-2023-0005, by any of the following methods:

• Federal e-Rulemaking Portal: https://www.regulations.gov.

• Email: rulemaking@ntsb.gov.

• Fax: 202-314-6090.

• Mail/Hand Delivery/Courier: NTSB, Office of General Counsel, 490 L'Enfant Plaza East SW, Washington, DC 20594.

Instructions: All submissions in response to this Notice must include Docket No. NTSB-2023-0005. All comments received will be posted without change to https://www.regulations.gov, including any personal information provided.

Docket: For access to the docket, including comments received, go to https://www.regulations.gov and search under Docket No. NTSB-2023-0005.

FOR FURTHER INFORMATION CONTACT: Casey Blaine, Deputy General Counsel, (202) 314-6080, rulemaking@ntsb.gov.

SUPPLEMENTARY INFORMATION:

Title of Collection: Generic Clearance for the Collection of Qualitative Feedback on Agency Service Delivery.

Form Number: To be determined by specific collections.

Type of Request: New Collection.

Type of Review: Regular.

Type of Review Requested: 3 years from the date of approval.

Summary of the Collection of Information: With the goal of ensuring that the Federal Government provided the highest quality service as possible, Executive Order (E.O.) 12862 (Setting Customer Service Standards) was issued to set customer service standards to a level that either matched or exceeded the best service available in the private sector. Accordingly, E.O. 12862 directed Federal agencies to create customer surveys to obtain information on customer satisfaction. E.O. 14058 (Transforming Federal Customer Experience and Service Delivery to Rebuild Trust in Government) was later issued and reiterated the Federal Government's commitment to improve a customer's experience in an agency's service delivery. E.O. 14058 defined service delivery as an action related to a Federal benefit or service provided to a customer.

To ensure that the NTSB's service delivery is effective and meets its customer needs, the NTSB seeks OMB approval of a generic clearance to collect qualitative feedback on the agency's service delivery. This proposed IC provides a means to garner qualitative feedback in an efficient, timely manner in accordance with the commitment to improving service delivery.

Qualitative feedback is information that will provide insights into stakeholder perceptions, experiences, and expectations; provide an early warning of issues with service; or focus attention on areas where communication, training, or changes in operations might improve delivery of products and services. This feedback will allow for ongoing, collaborative, and actionable communications between the NTSB and its stakeholders. It will also allow for feedback to contribute directly to the improvement of program management.

The feedback solicited will target areas that include, but are not limited to: timeliness, appropriateness, accuracy of information, courtesy, efficiency of service delivery, and resolution of issues with service delivery. Responses will be assessed to plan and inform efforts to improve or maintain the quality of service offered to the public. If this information is not collected, vital feedback from stakeholders on the agency's services will be unavailable.

The agency will only submit a collection for approval under this generic clearance if it meets the following conditions:

• The collection is voluntary;

• The collection is low-burden for respondents (based on considerations of total burden hours, total number of respondents, or burden-hours per respondent) and is low-cost for both the respondents and the Federal Government;

• The collection is non-controversial and does not raise issues of concern to other Federal agencies;

• Any collection is targeted to the solicitation of opinions from respondents who have experience with the program or may have experience with the program in the near-future;

• Personally identifiable information (PII) is collected only to the extent necessary and is not retained;

• Information gathered is intended to be used only internally for general service improvement and program management purposes and is not intended for release outside of the agency (if released, the agency must indicate the qualitative nature of the information);

• Information gathered will not be used for the purpose of substantially informing influential policy decisions; and

• Information gathered will yield qualitative information; the collections will not be designed or expected to yield statistically reliable results or used as though the results are generalizable to the population of study. The types of collections that this generic clearance covers include, but are not limited to:

• Customer comment cards/complaint forms;

• Qualitative customer satisfaction surveys (e.g., post-meeting surveys; web surveys); and

• In-person observation testing (e.g., website or software usability tests).

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such as collections may still be eligible for submission for other generic mechanisms that are designed to yield quantitative results.

As a general matter, information collections under this request will not result in any new system of records containing privacy information and will not ask questions of a sensitive nature, such as sexual behavior and attitudes, religious beliefs, and other matters that are commonly considered private.

Current Actions: New collection of information.

Type of Review: New Collection.

Affected Public: Individuals and Households, Businesses and Organizations, and State, Local, or Tribal Government.

Total Estimated Annual Burden Hours: 1,250.

Estimated Average Burden Hours per Respondent: 30 minutes.

Frequency of Response: On occasion, per request.

Total Estimated No. of Annual Responses: 15,000.

The 1,250 annual burden hours requested are based on the number of collections the NTSB expects to conduct over the requested three-year period for this generic clearance.

Estimated Total Annual Burden Cost: $0.

Participation in this collection is voluntary, and there are no costs to respondents beyond the time spent participating in the surveys.

Request for Comments: Prior to submitting the ICR to the Office of Information and Regulatory Affairs (OIRA), 5 CFR 1320.8(d)(1) requires agencies to provide a 60-day Notice in the Federal Register and otherwise consult with members of the public and affected agencies. Thus, through this Notice, the NTSB currently is soliciting public comments that include: (1) whether the proposed collection is necessary for the NTSB to perform its mission; (2) the accuracy of the estimated burden; (3) ways for the NTSB to enhance the quality, usefulness, and clarity of the IC; and (4) ways to minimize burden without reducing the quality of the IC. The NTSB will summarize and/or include comments received in the agency's request for OMB approval.

Jennifer Homendy,
Chair.

[FR Doc. 2023-11364 Filed 5-26-23; 8:45 am]

BILLING CODE 7533-01-P